DEPARTMENT OF AGRICULTURE

Submission for OMB Review; Comment Request

November 7, 2005.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: The Integrity Program (TIP) Data Collection.

OMB Control Number: 0584-0401.

Summary of Collection: The basis for this data collection and reporting system is Part 246.5 of the Women, Infant, and Children (WIC) Program regulations, which requires State agencies to report annually on their vendor monitoring efforts. The data collected from the States serves as a management tool to provide Congress, Office of the Inspector General, senior program managers, as well as the general public, assurances that program funds are being spent appropriately and that every reasonable effort is being made to prevent, detect and eliminate fraud, waste and abuse.

Need and Use of the Information: The Food and Nutrition Service will collect information using form FNS 698, Profile of Integrity Practices and Procedures; FNS 699, the Integrity Profile Report Form; and FNS 700, TIP Data Entry Form. The collected information from the forms will be analyzed and a report is prepared by FNS annually that (1) Assesses State agency progress in eliminating abusive vendors, (2) assesses the level of activity that is being directed to ensuring program integrity, and (3) analyzes trends over a 5-year period. The information is used at the national level in formulating program policy and regulations. At the FNS regional office level, the data is reviewed to identify possible vendor management deficiencies so that technical assistance can be provided to States, as needed. At the State level, the information is used to provide assurances to the Governor's office, and other interested parties, that WIC issues are being addressed.

Description of Respondents: State, local or tribal government.

Number of Respondents: 89.

Frequency of Responses: Reporting: Annually.

Total Burden Hours: 4,144.

Ruth Brown,
Departmental Information Collection Clearance Officer.

[FR Doc. 05-22555 Filed 11-10-05; 8:45 am]

BILLING CODE 3410-30-P